DEPARTMENT OF HOMELAND SECURITY

Federal Emergency Management Agency

[FEMA-1558-DR]

West Virginia; Amendment No. 7 to Notice of a Major Disaster Declaration

AGENCY: Federal Emergency Management Agency, Emergency Preparedness and Response Directorate, Department of Homeland Security.

ACTION: Notice.

SUMMARY: This notice amends the notice of a major disaster for the State of West Virginia (FEMA-1558-DR), dated September 20, 2004, and related determinations.

EFFECTIVE DATE: December 17, 2004.

FOR FURTHER INFORMATION CONTACT: Magda Ruiz, Recovery Division, Federal Emergency Management Agency, Washington, DC 20472, (202) 646-2705.

SUPPLEMENTARY INFORMATION: Notice is hereby given that, in a letter dated December 17, 2004, the President amended the cost-sharing arrangements concerning Federal funds provided under the authority of the Robert T. Stafford Disaster Relief and Emergency Assistance Act, 42 U.S.C. 5121-5206 (Stafford Act), in a letter to Michael D. Brown, Under Secretary for Emergency Preparedness and Response, Federal Emergency Management Agency, Department of Homeland Security as follows:

I have determined that the damage in certain areas of the State of West Virginia, resulting from severe storms, flooding, and landslides on September 16-27, 2004, is of sufficient severity and magnitude that special conditions are warranted regarding the cost sharing arrangements concerning Federal funds provided under the Robert T. Stafford Disaster Relief and Emergency Assistance Act, 42 U.S.C. 5121-5206 (the Stafford Act).

Therefore, I amend my declaration of September 20, 2004, to authorize Federal funds for Public Assistance Categories A and B (debris removal and emergency protective measures) at 100 percent of total eligible costs for emergency work performed for a selected period of up to 72 hours. Only work performed during the selected 72-hour period will be reimbursed at 100 percent. Each applicant may select its own 72-hour periods and the periods may be different for Categories A and B. The 72 hours must be one continuous period within a window starting at 12:01 a.m. of the first day of the incident period through 11:59 p.m. of the fourteenth full day following the declaration.

This adjustment to State and local cost sharing applies only to debris removal and emergency protective measures (Categories A and B) under the Public Assistance program costs eligible for such adjustments under the law. The law specifically prohibits a similar adjustment for funds provided to States for Other Needs Assistance (Section 408), and the Hazard Mitigation Grant Program (Section 404). These funds will continue to be reimbursed at 75 percent of total eligible costs.

Please notify the Governor of West Virginia and the Federal Coordinating Officer of these amendments to my major disaster declarations.

This cost share is effective as of the date of the President's major disaster declaration.

(The following Catalog of Federal Domestic Assistance Numbers (CFDA) are to be used for reporting and drawing funds: 97.030, Community Disaster Loans; 97.031, Cora Brown Fund Program; 97.032, Crisis Counseling; 97.033, Disaster Legal Services Program; 97.034, Disaster Unemployment Assistance (DUA); 97.046, Fire Management Assistance; 97.048, Individuals and Households Housing; 97.049, Individuals and Households Disaster Housing Operations; 97.050 Individuals and Households Program—Other Needs, 97.036, Public Assistance Grants; 97.039, Hazard Mitigation Grant Program.)
Michael D. Brown,
Under Secretary, Emergency Preparedness and Response, Department of Homeland Security.

[FR Doc. 04-28472 Filed 12-28-04; 8:45 am]

BILLING CODE 9110-10-P